SMALL BUSINESS ADMINISTRATION

[Disaster Declaration #17381 and #17382; Puerto Rico Disaster Number PR-00040]

Presidential Declaration of a Major Disaster for the State of Puerto Rico

AGENCY: Small Business Administration.

ACTION: Notice.

SUMMARY: This is a Notice of the Presidential declaration of a major disaster for the State of PUERTO RICO (FEMA—4649—DR), dated 03/29/2022.

Incident: Severe Storms, Flooding and Landslides.

Incident Period: 02/04/2022 through 02/06/2022.

DATES: Issued on 03/29/2022.

Physical Loan Application Deadline Date: 05/31/2022.

Economic Injury (EIDL) Loan Application Deadline Date: 12/29/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 03/29/2022, applications for disaster loans may be filed at the address listed above or other locally announced locations.

The following areas have been determined to be adversely affected by the disaster:

Primary Counties (Physical Damage and Economic Injury Loans): Catano, Dorado, Toa Baja, Vega Alta, Vega Baja.

Contiguous Counties (Economic Injury Loans Only):

Puerto Rico: Bayamon, Corozal, Guaynabo, Manati, Morovis, San Juan, Toa Alta.

The Interest Rates are:

| Percent
For Physical Damage:
Homeowners with Credit Available Elsewhere | 2.875
Homeowners without Credit Available Elsewhere | 1.438
Businesses with Credit Available Elsewhere | 5.880
Businesses without Credit Available Elsewhere | 2.940
Non-Profit Organizations with Credit Available Elsewhere | 1.875
Non-Profit Organizations without Credit Available Elsewhere | 1.875
For Economic Injury:
Businesses & Small Agricultural Cooperatives without Credit Available Elsewhere | 2.940
Non-Profit Organizations without Credit Available Elsewhere | 1.875

The number assigned to this disaster for physical damage is 17381 6 and for economic injury is 17382 0.

(Catalog of Federal Domestic Assistance Number 59008)

Cynthia Pitts,
Acting Associate Administrator for Disaster Assistance.

[FR Doc. 2022-07016 Filed 4-1-22; 8:45 am]

BILLING CODE 8026-03-P